DEPARTMENT OF STATE

[Public Notice 3370]

Culturally Significant Objects Imported for Exhibition Determinations: “Painting Revolution: Kandinsky, Malevich and the Russian Avant-Garde”

AGENCY: United States Department of State.

ACTION: Amendment.

SUMMARY: On January 12, 2000, Notice was published on page 1940 of the Federal Register (Volume 65, Number 8) by the Department of State pursuant to Pub. L 89-259 relating to the exhibit “Painting Revolution: Kandinsky, Malevich and the Russian Avant-Garde.” The referenced Notice is amended as follows. After “March 31, 2001,” insert the following additional venue: “and at the Bass Museum in Miami Beach, Florida from on or about July 9, 2001, is in the national interest.”

FOR FURTHER INFORMATION CONTACT: For further information, including a list of exhibit objects, contact Jacqueline Caldwell, Attorney-Adviser, Office of the Legal Adviser, U.S. Department of State (telephone: 202/619-6982). The address is U.S. Department of State, SA-44, 301 4th Street, S.W., Room 700, Washington, DC 20547-0001.

Dated: July 18, 2000.
Helena Kane Finn,
Acting Assistant Secretary for Educational and Cultural Affairs, Department of State.

[FR Doc. 00-18783 Filed 7-24-00; 8:45 am]

BILLING CODE 4710-08-P